DEPARTMENT OF HEALTH AND HUMAN SERVICES

Administration for Children and Families

Submission for OMB Review; Community Services Block Grant (CSBG) Model State Plan Applications (OMB No. 0970-0382)

AGENCY: Office of Community Services, Administration for Children and Families, HHS.

ACTION: Request for public comment.

SUMMARY: The Office of Community Services (OCS) requests a three-year extension of the forms Community Services Block Grant (CSBG) State Plan, CSBG Eligible Entity Master List, and the American Customer Survey Index (ACSI) (OMB #0970-0382, expiration 6/30/2021). There are minimal changes requested to the State Plan and the Master List. No changes are proposed to the ACSI.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: Section 676 of the Community Services Block Grant (CSBG) Act requires states, including the District of Columbia and the Commonwealth of Puerto Rico, and U.S. territories applying for CSBG funds to submit an application and plan (CSBG State Plan). The CSBG State Plan must meet statutory requirements prior to CSBG grantees (states and territories) being funded with CSBG funds. Grantees have the option to submit a detailed plan annually or biannually. Grantees that submit a biannual plan must provide an abbreviated plan the following year if substantial changes to the initial plan will occur.

OCS proposes to revise the automated CSBG State Plan format for states and territories by revising questions for clarity and system compatibility. OCS does not anticipate that these revisions will cause any additional burden to CSBG grantees as they have completed the automated plan for six years. It is anticipated that the burden will continue to diminish in subsequent years due to improved automation.

In addition to the CSBG State Plan, OCS requests that all grantees revise their CSBG Eligible Entity Master List in year one to add the executive director and website for each agency. Grantees will revise the Master List as necessary in subsequent years. As the CSBG Eligible Entity Master List is already completed and states have the information about their eligible entities (or sub-grantees), the burden will be minimal to the states to provide the additional requested information.

Lastly, the request includes a survey for the sub-grantees (or CSBG-eligible entities). The survey focuses on the customer service that the CSBG sub-grantees receive from the CSBG grantees. The survey is optional, and this will be the fifth time that the CSBG sub-grantees that chose to submit will complete it. There are no revisions proposed to the survey.

Respondents: State governments, including the District of Columbia and the Commonwealth of Puerto Rico, and U.S. territories, and local level sub-grantees.

Annual Burden Estimates
Instrument | Total number of respondents | Total number of responses per respondent | Average burden hours per response | Total burden hours | Annual burden hours
CSBG State Plan Application for States | 56 | 3 | 31 | 5,208 | 1,736
CSBG Eligible Entity Master List | 56 | 3 | 2 | 336 | 112
CSBG ACSI Survey of Eligible Entities | 1,007 | 1 | .33 | 332 | 111

Estimated Total Annual Burden Hours: 1,848 hours for CSBG grantees; 111 for CSBG sub-grantees.

Authority: Sec. 676, Pub. L. 105-285, 112 Stat. 2735 (42 U.S.C. 9908)

Mary B. Jones,
ACF/OPRE Certifying Officer.

[FR Doc. 2021-13742 Filed 6-25-21; 8:45 am]

BILLING CODE 4184-27-P